FEDERAL COMMUNICATIONS COMMISSION

[17490]

Open Commission Meeting Wednesday, February 17, 2021

February 10, 2021.

The Federal Communications Commission will hold an Open Meeting on the subjects listed below on Wednesday, February 17, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Table 1—Self-Assessment
Item No. | Bureau | Subject
1 | WIRELINE COMPETITION | Title: Presentation on the Emergency Broadband Benefit Program. Summary: The Commission will hear a presentation on the creation of an Emergency Broadband Benefit Program. Congress charged the FCC with developing a new $3.2 billion program to help struggling Americans to pay for broadband internet service during the pandemic.
2 | WIRELINE COMPETITION | Title: Presentation on COVID-19 Telehealth Program. Summary: The Commission will hear a presentation about the next steps for the agency's COVID-19 Telehealth program. Congress recently provided an additional $249.95 million to support the FCC's efforts to expand connected care throughout the country and help more patients receive health care safely.
3 | OFFICE OF ECONOMICS AND ANALYTICS, WIRELINE COMPETITION AND WIRELESS TELE-COMMUNICATIONS | Title: Presentation on Collection of Broadband Deployment Data. Summary: The Commission will hear a presentation on the work the agency is doing to collect precise and accurate fixed and mobile broadband deployment data as part of its mission to close the digital divide.
4 | PUBLIC SAFETY & HOMELAND SECURITY | Title: 911 Fee Diversion (PS Docket No. 20-291); New and Emerging Technologies 911 Improvement Act of 2008 (PS Docket No. 09-14). Summary: The Commission will consider a Notice of Proposed Rulemaking that would implement section 902 of the Don't Break Up the T-Band Act of 2020, which requires the Commission to take action to help address the diversion of 911 fees by states and other jurisdictions for purposes unrelated to 911.
5 | WIRELINE COMPETITION | Title: Implementing the Secure and Trusted Communications Networks Act (WC Docket No. 18-89). Summary: The Commission will consider a Third Further Notice of Proposed Rulemaking that proposes to modify FCC rules consistent with changes that were made to the Secure and Trusted Communications Networks Act in the Consolidated Appropriations Act, 2021.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2021-03313 Filed 2-18-21; 8:45 am]

BILLING CODE 6712-01-P